DEPARTMENT OF HOMELAND SECURITY

Federal Emergency Management Agency

[Docket ID: FEMA-2010-0033]

Agency Information Collection Activities: Proposed Collection; Comment Request, 1660-0030; Request for the Site Inspection, Landowners Authorization/Ingress/Egress Agreement

AGENCY: Federal Emergency Management Agency, DHS.

ACTION: Notice; 60-day notice and request for comments; revision of a currently approved information collection; OMB No. 1660-0030; FEMA Form 010-0-09 (formerly 90-1), Request for the Site Inspection; FEMA Form 010-0-10 (formerly 90-31), Landowner's Authorization Ingress-Egress Agreement.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning FEMA's temporary housing assistance provides temporary housing to eligible applicants or victims of federally declared disasters. This information is required to determine that the infrastructure of the site supports the installation of the unit, obtains permission for the unit to be placed on the property and ensured written permission of the property owner is obtained to allow the housing unit on the property to include ingress and egress.

DATES: Comments must be submitted on or before August 6, 2010.

ADDRESSES: To avoid duplicate submissions to the docket, please use only one of the following means to submit comments:

(1) Online. Submit comments at http://www.regulations.gov under Docket ID FEMA-2010-0033. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0033 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact William Fiorini, Program Specialist, (202) 212-1228 for additional information. You may contact the Records Management Division for copies of the proposed collection of information at facsimile number (202) 646-3347 or e-mail address: FEMA-Information-Collections-Management@dhs.gov.

SUPPLEMENTARY INFORMATION: The Robert T. Stafford Disaster Relief and Emergency Assistance Act (42 U.S.C 5174) authorizes the President to provide mobile homes and other readily fabricated dwellings to eligible applicants who require temporary housing as a result of a major disaster. Title 44 CFR 206.117 provides the requirements for disaster-related housing needs of individuals and households who are eligible for temporary housing assistance. The information collected provides the facts necessary to determine the feasibility of the proposed site for placement of temporary housing and so that FEMA can have access to place the temporary housing unit as well as retrieve it at the end of the use.

Collection of Information

Title: Request for the Site Inspection, Landowners Authorization/Ingress/Egress Agreement.

Type of Information Collection: Revision of a currently approved information collection.

OMB Number: 1660-0030.

Form Titles and Numbers: FEMA Form 010-0-09 (formerly 90-1), Request for the Site Inspection; FEMA Form 010-0-10 (formerly 90-31), Landowner's Authorization Ingress-Egress Agreement.

Abstract: FEMA's temporary housing assistance provides temporary housing to eligible applicants or victims of federally declared disasters. This information is required to determine that the infrastructure of the site supports the installation of the unit. This collection also obtains permission for the unit to be placed on the property, and the property owner certifies that they will not have a lien placed against the unit for their own debts will maintain the property so that FEMA can remove the unit when required.

Affected Public: Individuals or households.

Estimated Total Annual Burden Hours: 1,700 Hours.

Estimated Annualized Burden Hours and Costs
Type of respondent | Form name/form number | Number of respondents | Number of responses per respondent | Total No. of responses | Avg. burden per response (in hours) | Total annual burden (in hours) | Avg. hourly wage rate | Total annual respondent cost
Individuals or households | FEMA Form 010-0-9/Request for the Site Inspection | 5,000 | 1 | 5,000 | 0.17 | 850 | $28.00 | $23,800
Individuals or households | FEMA Form 010-0-10/Landowner's Authorization Ingress-Egress Agreement | 5,000 | 1 | 5,000 | 0.17 | 850 | 28.00 | 23,800
Total |  | 5,000 |  | 10,000 |  | 1,700 |  | 47,600

Estimated Cost: There are no annual capital, start-up, maintenance or operation costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 28, 2010.
Tammi Hines,
Acting Director, Records Management Division, Mission Support Bureau, Federal Emergency Management Agency, Department of Homeland Security.

[FR Doc. 2010-13616 Filed 6-4-10; 8:45 am]

BILLING CODE 9111-23-P